DEPARTMENT OF ENERGY

Notice of Public Scoping Meetings and Extension of Scoping Period for the U.S. Department of Energy Uranium Leasing Program Programmatic Environmental Impact Statement

AGENCY: Department of Energy (DOE).

ACTION: Notice of public scoping meetings and extension of scoping period.

SUMMARY: DOE will host public scoping meetings in western Colorado to receive comments on the scope of the DOE Uranium Leasing Program (ULP) Programmatic Environmental Impact Statement (hereinafter referred to as the ULP PEIS). The PEIS will analyze the reasonably foreseeable environmental impacts, including the site-specific impacts, of the range of reasonable alternatives for the management of DOE's ULP.

On June 21, 2011, DOE announced in the Federal Register (76 FR 36097) its intention to prepare the PEIS and opened a scoping period which would have closed August 22, 2011. The scoping period has been extended and will now close on September 9, 2011. DOE invites the public to submit written comments by any of the means listed in the ADDRESSES section. Oral as well as written comments may also be provided at the public scoping meetings to be held as listed under SUPPLEMENTARY INFORMATION.

DATES: DOE invites comments on the proposed scope of the PEIS from all interested parties. The public scoping period began on June 21, 2011, and will close on September 9, 2011. Comments on the scope of the PEIS should be submitted by September 9, 2011. Comments e-mailed or postmarked after that date will be considered to the extent practicable. DOE also invites all interested parties to participate in public scoping meetings. Dates and locations of the public scoping meetings are listed under SUPPLEMENTARY INFORMATION below. Requests to speak at any of the public scoping meetings can be submitted via the ULP PEIS Web site indicated in the ADDRESSES section and may also be made at the scoping meetings; however, requests received via the Web site before the scoping meetings will be given priority in the speaking order. For interested parties wishing to speak with a DOE representative, see the FOR FURTHER INFORMATION CONTACT section of this announcement.

ADDRESSES: Requests to speak at the public scoping meetings on the proposed scope of the PEIS may be submitted via the ULP PEIS Web site at http://ulpeis.anl.gov and at the public scoping meetings. Written comments may be submitted by any of the following means:

• By submitting electronic comments on the PEIS Web site at http://ulpeis.anl.gov.

• By e-mail to ulpeis@anl.gov.

• By mail to Laura Kilpatrick, Esq., DOE ULP Program Manager, Office of Legacy Management, U.S. Department of Energy, 11025 Dover Street, Suite 1000, Westminster, CO 80021.

FOR FURTHER INFORMATION CONTACT: For information on DOE's proposed action, contact Laura Kilpatrick, Esq., DOE ULP Program Manager, at the address listed above.

For general information on the DOE National Environmental Policy Act (NEPA) process, contact Carol Borgstrom, Director, Office of NEPA Policy and Compliance (GC-54), U.S. Department of Energy, 1000 Independence Avenue, SW., Washington, DC 20585; telephone (202-586-4600); fax (202-586-7031); or leave a toll-free message (1-800-472-2756).

SUPPLEMENTARY INFORMATION: On June 21, 2011, DOE published a notice in the Federal Register (76 FR 36097) announcing its intention to prepare the ULP PEIS and opening a scoping period that would have closed August 22, 2011. The PEIS will be prepared pursuant to NEPA (42 U.S.C. 4321, et seq.), the Council on Environmental Quality (CEQ) NEPA regulations (40 CFR Parts 1500-1508), and DOE's NEPA implementing procedures (10 CFR Part 1021). The PEIS will analyze the reasonably foreseeable environmental impacts, including site-specific impacts, of alternatives for the management of DOE's ULP, under which DOE administers tracts of land for the exploration, development, and extraction of uranium and vanadium ores. The ULP includes tracts of land located in Mesa, Montrose, and San Miguel counties in western Colorado that cover a cumulative acreage of approximately 25,000 acres. In the June 21, 2011, notice, DOE stated that it would hold public scoping meetings and announce the dates, times, and locations of these meetings in a subsequent Federal Register notice, as well as in local news media. DOE now announces the public scoping meetings to be held at the dates, times, and locations listed below. DOE is also extending the public scoping period to September 9, 2011.

Four public scoping meetings will be held as follows:

• August 8, 2011—Montrose Pavilion, 1800 Pavilion Dr., Montrose, CO 81401, from 6:30 to 9 p.m.

• August 9, 2011—Sheridan Opera House, 110 North Oak St., Telluride, CO 81435, from 6:30 to 9 p.m.

• August 10, 2011—Naturita Community Building, 411 W. 2nd St., Naturita, CO 81422, from 6:30 to 9 p.m.

• August 11, 2011—San Juan County Courthouse, Commission Chambers, 117 South Main St., Monticello, UT 84535, from 6:30 to 9 p.m.

At each of the public scoping meetings, registration to speak will be held starting at 6:30 pm. The formal commenting session will begin at 7 p.m. with a DOE presentation providing an overview of the DOE ULP, the proposed action for the ULP PEIS, and a description of the NEPA process for the ULP PEIS. Public comments will be received starting at 7:15 p.m. until the end of each meeting. The formal commenting session will be transcribed by a court stenographer. The presiding officer will establish the order of the speakers and procedures to ensure that everyone who wishes to speak has an opportunity to do so. Depending on the number of speakers, the presiding officer may limit all speakers to a set amount of time initially and provide additional opportunities to speak as time permits. Individuals may also provide written materials in lieu of, or supplemental to, their presentations, and such additional information may be submitted in writing by the date listed in the DATES section. Both oral and written comments will be considered and given equal weight by DOE.

Issued in Washington, DC, on July 15, 2011.
Thomas C. Pauling,
Acting Director, Office of Legacy Management.

[FR Doc. 2011-18373 Filed 7-20-11; 8:45 am]

BILLING CODE 6450-01-P